DEPARTMENT OF HEALTH AND HUMAN SERVICES

Administration for Children and Families

Proposed Information Collection Activity; Comment Request

Title: Home Visiting Career Trajectories.

OMB No.: New Collection.

Description: The Administration for Children and Families (ACF) at the U.S. Department of Health and Human Services (HHS), in collaboration with the Health Resources and Services Administration (HRSA), seeks approval to collect information from home visiting program staff in programs receiving funding through the Maternal, Infant, and Early Childhood Home Visiting (MIECHV) Program as part of the Home Visiting Career Trajectories study. ACF is interested in collecting information about the state of the home visiting workforce, career trajectories of home visitors, and strategies for building a pipeline of qualified home visitors and supervisors.

Through the proposed information collection, the researchers will obtain information about the characteristics, qualifications, and career trajectories of home visiting staff. The study will include a national survey of the MIECHV workforce, interviews with training and technical assistance experts, and site visits to home visiting programs in eight states that vary in terms of geography, population demographics, labor markets, and home visiting program offerings.

Respondents: Home visiting program managers, supervisors, home visitors, and training and technical assistance experts.

Annual Burden Estimates
Instrument | Total/annual number of respondents | Number of responses per respondent | Average burden hours per response | Annual burden hours
Home visitor and supervisor survey | 3,000 | 1 | 0.38 | 1,140
Program manager survey | 700 | 1 | 0.33 | 231
Focus group moderator's guide | 480 | 1 | 2 | 960
Self-administered questionnaire for focus group participants | 480 | 1 | 0.03 | 14
Key informant interview guide—management and supervisory staff | 80 | 1 | 1.5 | 120
Key informant interview guide—training and technical assistance experts | 30 | 1 | 1.5 | 45

Estimated Total Annual Burden Hours: 2,510.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-20676 Filed 9-26-17; 8:45 am]

BILLING CODE 4184-74-P